Proclamation 8557 of September 10, 2010

National Historically Black Colleges and Universities Week, 2010

By the President of the United States of America

A Proclamation

Early in our Nation’s history, higher education was not possible for most African Americans, and simple lessons in reading and writing were often conducted in secret. With a unique mission to meet the educational needs of African Americans, Historically Black Colleges and Universities (HBCUs) have been valued resources for our country since their inception before the Civil War. Historically Black Colleges and Universities have opened doors and cultivated dreams, and the contributions of their founders, faculty, students, and graduates have shaped our growth and progress as a Nation. During National Historically Black Colleges and Universities Week, we honor these pillars of higher education in America, and we pay tribute to those who have worked to realize their promise.

Bastions of heritage and scholarship, HBCUs have produced African American medical professionals, lawyers, educators, and public officials throughout their history. Countless individuals have worked tirelessly to cultivate HBCUs, and their legacy is seen in graduates whose achievements adorn the pages of American history. From Booker T. Washington to Mary McLeod Bethune, Dr. W.E.B. DuBois to the Reverend Dr. Martin Luther King, Jr., HBCU visionaries and graduates have set powerful examples of leadership, built our middle class, strengthened our economy, served in our Armed Forces, and secured their place in the American story.

HBCUs are important engines of economic growth and community service and will continue to play a vital role in helping America achieve our goal of having the highest proportion of college graduates in the world by 2020. This year, I was proud to sign an Executive Order to strengthen the White House Initiative on HBCUs, which will collaborate with government agencies, educational associations, philanthropic organizations, the private sector, and other partners to increase the capacity of HBCUs to provide the highest-quality education to a greater number of students. Together, we will ensure HBCUs continue fostering determination in their students, instilling pride in their alumni, and adding rungs to our Nation’s ladder of opportunity for future generations.

During National Historically Black Colleges and Universities Week, we celebrate the immeasurable contributions these crucibles of learning have made to our Nation. As we continue strengthening the capacity of HBCUs, let us also recommit to preserving and enriching their long tradition of hope and success, and to sustaining our collective effort to meet and exceed America’s goals for educational excellence.

NOW, THEREFORE, I, BARACK OBAMA, President of the United States of America, by virtue of the authority vested in me by the Constitution and the laws of the United States, do hereby proclaim September 12 through September 18, 2010, as National Historically Black Colleges and Universities Week. I call upon all public officials, educators, librarians, and Americans to observe this week with appropriate programs, ceremonies, and activities that acknowledge the tremendous achievements HBCUs and their graduates have made to our country.

IN WITNESS WHEREOF, I have hereunto set my hand this tenth day of September, in the year of our Lord two thousand ten, and of the Independence of the United States of America the two hundred and thirty-fifth.

[FR Doc. 2010-23198

Filed 9-14-10; 11:15 am]

Billing code 3195-W0-P